DEPARTMENT OF AGRICULTURE

Forest Service

2005 Forest Land Recovery Program

AGENCY: Forest Service, USDA.

ACTION: Notice of program implementation.

SUMMARY: The Military Construction Appropriations and Emergency Hurricane Supplemental Appropriations Act, 2005 (Pub. L. 108-324) makes $10,000,000 available to the Secretary of Agriculture to provide assistance to eligible nonindustrial private forest landowners who suffered losses during 2004, as a result of hurricane, tropical storm, or related events for the purposes of debris removal, replanting of timber, and other related purposes. The USDA Forest Service will administer this program, in partnerhsip with State forestry agencies in the States of Alabama and Florida, where signicant loss and damage to forest resources has occurred.

DATES: Assistance will be made available to eligible landowners from March 2005 until such time as all funds are expended.

ADDRESSES: Information about the Forest Land Recovery Program can be obtained by writing to the USDA Forest Service, Cooperative Forestry Staff headquarters located at 1400 Independence Avenue, SW., Washington, DC 20250-1123.

FOR FURTHER INFORMATION CONTACT: Karl R. Dalla Rosa, Cooperative Forestry Staff, (202) 205-6206.

SUPPLEMENTARY INFORMATION:

National Program Administration

All program funds will be adminsitered by the Chief of the Forest Serivce through the Forest Service Regional Forester, in partnership with State forestry agencies in the States of Alabama and Florida, where significant damage and loss to private forest resources has occurred. The State Foresters shall use all program funds to provide cost-share assistance to non-industrial private forest landowners in their States, who suffered losses to hurricanes and tropical storms during the 2004 hurricane season. All funds will be accounted for in accordance with Federal financial accounting standards. The Chief has final authority to resolve all issues that may arise in the adminsitraton of these funds.

State Program Administration

The State Foresters shall make all program funds available, as cost-share assistance to eligible landowners as follows:

1. For the purposes of site preparation (including debris removal), planting and other purposes related to the restoration of damaged or lost forest resources.

2. Following the preparation of a management or practice plan that identifies the needed practices, specifications, and performance period for the implementation of the practice(s) to achieve the forest restoration objectives of the landowner.

3. As reimbursements for practices completed on a 75% cost-share basis.

4. Consistent with appropriate per acre cost-share rate maximums for eligible practices, as established by the State Foresters, through this or existing cost-share programs.

5. No single landowner shall receive more than $75,000 total in cost-share assistance.

6. No single landowner shall receive assistance for the treatment of more than 1000 acres of forestland.

Landowner Eligibility Requirements for Cost-Share Assistance

A landowner is eligible for program assistance if all of the following requirements are met:

1. The landowner is an individual, group, association, corporation, Indian Tribe, or other legal private entity owning not more than 5,000 acres of timber producing forest land (or a person who has received concurrence from the landowner for practice implementation and who holds a lease on the land for a minimum of 10 years). Corporations whose stocks are publicly traded or owners principally engaged in the primary processing of raw wood products are excluded.

2. The landowner owns forest land in either Florida or Alabama, where significant forest resource loss or damage has occurred as a result of one or more hurricane or tropical storm during the 2004 hurricane season. The landowner has not received, nor will receive cost-share assistance from the USDA Farm Service Agency under Public Law 108-324, Section 101(c), the Tree Assistance Program.

Recapture of Cost-Share Assistance

Payments made to landowners may be recaptured under one or more of the following circumstances:

1. If any landowner, successor, or assignee uses any scheme or device to unjustly benefit from this program. A scheme or device includes, but is not limited to, coercion, fraud or misrepresentation, false claims, or any business dissolution, reorganization, revival, or other legal mechanism designed for or having the effect of evading the requirements of this program. Financial assistance payments shall be withheld or a refund of all or part of any cost-share payments otherwise due or paid to that person shall be secured.

2. If any landowner or successor takes any action or fails to take action, which results in the destruction or impairment of a prescribed practice for the duration of the practice. Cost-share payments shall be withheld or a recapture of all or part of any cost-share payments otherwise due or paid shall be secured, based on the extent and effect of destruction and impairment.

3. If it is determined that the landowner has also received assistance from the USDA Farm Service Agency under H.R. 4837, Section 101(c)(2), the Tree Assistance Program.

Landowner Application Information

Eligible landowners are may apply for program assistance at their local office of the Florida Division of Forestry or the Alabama Forestry Commission.

Dated: February 25, 2005.
Sally Collins,
Associate Chief.

[FR Doc. 05-4322 Filed 3-4-05; 8:45 am]

BILLING CODE 3410-11-P